DEPARTMENT OF ENERGY

Federal Energy Regulatory Commission

[Docket No. RP02-409-002]

MIGC, Inc.; Notice of Compliance Filing

January 14, 2003.

Take notice that on January 9, 2003, MIGC, Inc. (MIGC) tendered for filing as part of its FERC Gas Tariff, First Revised Volume No.1, Sub 1st Rev Second Revised Sheet No. 83, to become effective October 1, 2002.

MIGC asserts that the purpose of this filing is to correct an inadvertent omission in its tariff of a North American Energy Standards Board (NAESB) standard. MIGC proposes to revise its tariff to add language to the capacity release procedures for biddable releases of one year or more which requires transporter to issue a contract within one hour of award posting and provides for nomination beginning at the next available nomination cycle. This revision is consistent with Standard 5.3.2 of Version 5.1 of the NAESB.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link. Protest Date: January 22, 2003.

Magalie R. Salas,
Secretary.

[FR Doc. 03-1268 Filed 1-17-03; 8:45 am]

BILLING CODE 6717-01-P